DEPARTMENT OF ENERGY

Office of Energy Efficiency and Renewable Energy

Challenges and Opportunities for Pumped Storage Hydropower

AGENCY: Wind and Water Power Technologies Office, Office of Energy Efficiency and Renewable Energy, Department of Energy.

ACTION: Notice of public workshop and webinar.

SUMMARY: The Wind and Water Power Technologies Office within the U.S. Department of Energy (DOE) recently released a Request for Information to identify the challenges and opportunities faced by the pumped storage hydropower industry. DOE is now announcing two additional opportunities to obtain individual stakeholder insight into the technical and market challenges and potential pathways to facilitate the development of pumped storage in the U.S.: A public workshop and a subsequent webinar entitled, “Challenges and Opportunities for Pumped Storage Hydropower.”

DATES:

Workshop

The public workshop will be held on Wednesday, April 27, 2016, from 1:00 p.m. to 5:00 p.m. in Washington, DC following the National Hydropower Association Conference.

Webinar

The public webinar will take place on Thursday, May 5, 2016, from 1:00 p.m. to 4:00 p.m. Eastern Time.

ADDRESSES:

Workshop

The public workshop will be held in the Congressional Room at the Capital Hilton located at 1001 16th St. NW., Washington, DC 20036.

Webinar

The webinar will be broadcasted to the public online. Instructions for accessing the webinar will be shared prior to the event. Registration is required.

FOR FURTHER INFORMATION CONTACT: Questions may be directed to Daniel Rabon at (202) 586-1545 or by email at Daniel.Rabon@ee.doe.gov.

SUPPLEMENTARY INFORMATION:

Background

Pumped storage hydropower (PSH) comprises the overwhelming majority (97%) of utility-scale storage in the U.S. The value proposition of PSH lies in its ability to provide operating flexibility to balance system loads and variable generation from other renewables. However, since 1995, only one PSH plant has been deployed in the U.S. Furthermore, while advanced PSH is being used worldwide, no single project in the U.S. is currently taking advantage of this technology.

DOE is looking to continue to assess and better understand the challenges faced by the PSH industry as they relate to technology advancements for small, modular and large systems, market structures and civil works, and their respective technical, financial, market and regulatory challenges. While DOE recently released a Request for Information on this topic, this public workshop and subsequent webinar provide an additional opportunity for the hydropower community to express thoughts, concerns, and ideas based on their own experience that will help inform program strategy. Topic areas of interest up for discussion will include technical and market challenges facing PSH development and potential pathways forward. An agenda will be distributed prior to the events.

The objective of the meeting is to ask for public input regarding the project described in this notice. To that end, it would be most helpful if members of the public provide information based on their personal experience, individual advice, and facts regarding this topic. It is not the objective of this meeting to obtain any group position or consensus. Rather, the DOE is seeking as many recommendations as possible from all individuals at this meeting.

Public Participation

Workshop

Members of the public are welcome to attend the workshop. Registration is free and available on a first-come, first-served basis. Persons interested in attending this public workshop must register online by Friday, April 22, 2016. Early registration is recommended because facilities are limited and, therefore, DOE may limit the number of participants from each organization. To register for the public workshop, please visit http://bit.ly/1p5gFmW. Registrants will receive confirmation after they have been accepted. If you need special accommodations due to a disability, please contact Marisol Bonnet at (202) 586-4265 or by email at Marisol.Bonnet@ee.doe.gov.

Webinar

Members of the public are welcome to attend the webinar. Persons interested in attending this public workshop must register online by Wednesday, May 4, 2016. To register for the public webinar, please visit http://bit.ly/1R5h59a. Instructions for accessing the webinar will be sent to all registrants prior to the event.

Issued in Washington, DC, on March 29, 2016.
Mark Higgins,
Deputy Director, Wind and Water Power Technologies Office, Energy Efficiency and Renewable Energy.

[FR Doc. 2016-07585 Filed 4-1-16; 8:45 am]

BILLING CODE 6450-01-P